ENVIRONMENTAL PROTECTION AGENCY

[ER-FRL-9003-7]

Environmental Impacts Statements; Notice of Availability

Responsible Agency: Office of Federal Activities, General Information (202) 564-7146 or http://www.epa.gov/compliance/nepa/

Weekly receipt of Environmental Impact Statements

Filed 06/18/2012 Through 06/22/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120197, Draft EIS, USFS, ID, Golden Hand No. 1 and No. 2 Lode Mining Claims Project, Krassel Ranger District, Payette National Forest, Valley and Idaho Counties, ID, Comment Period Ends: 08/13/2012, Contact: Jeff Hunteman 208-634-0434.

EIS No. 20120198, Draft EIS, FHWA, TX, Grand Parkway (State Highway 99) Segment B, Construction, from SH-288 to IH-45, USACE Section 404 Permit, Brazoria and Galveston Counties, TX, Comment Period Ends: 09/26/2012, Contact: Gregory Punske 512-536-5960.

EIS No. 20120199, Final EIS, RUS, MS, ADOPTION—Kemper County Integrated Gasification Combined Cycle Project, To Provide Financial Assistance, Kemper County, MS, Review Period Ends: 07/30/2012, Contact: Emily Orler 202-720-1414.

EIS No. 20120200, Final EIS, USFS, MT, Stillwater Mining Reused Water Management Plans and Boe Ranch LAD, USACE Section 404 Permit, Beartooth Ranger District, Stillwater County, MT, Review Period Ends: 07/30/2012, Contact: Pat Pierson 406-255-1441.

EIS No. 20120201, Draft Supplement, USACE, IN, Indianapolis North Flood Damage Reduction, Modifications to Project Features and Realignment of the South Warfleigh Section, Marion County, IN, Comment Period Ends: 08/13/2012, Contact: Michael Turner 502-315-6900.

EIS No. 20120202, Final EIS, FAA, NM, Taos Regional Airport Layout Plan, Improvements, Construction and Operation of Various Improvements, Town of Taos, Taos County, NM, Review Period Ends: 07/30/2012, Contact: Dean McMath 817-222-5617.

EIS No. 20120203, Final EIS, BLM, WY, Visual Resource Management (VRM) Plan, Amendment, Class Designation, Carbon County, WY, Review Period Ends: 07/30/2012, Contact: Pamela Murdock 307-775-6259.

EIS No. 20120204, Final EIS, BLM, WY, Chokecherry and Sierra Madre Wind Energy Project, Development of a Wind Farm, Carbon County, WY, Review Period Ends: 07/30/2012, Contact: Pamela Murdock 307-775-6259.

EIS No. 20120205, Draft EIS, BLM, CA, Alta East Wind Project, Development of a 318-megawatt Wind Energy Facility, Kern County, CA, Comment Period Ends: 09/26/2012, Contact: Jeffery Childers 951-697-5308.

EIS No. 20120206, Final EIS, NPS, AK, Denali Park Road Final Vehicle Management Plan, Implementation, Denali National Park and Preserve, AK, Review Period Ends: 07/30/2012, Contact: Miriam Valentine 907-733-9102.

EIS No. 20120207, Final EIS, USACE, LA, Mississippi River Gulf Outlet Ecosystem Restoration, To Develop a Comprehensive Ecosystem Restoration Plan to Restore the Lake Borgne Ecosystems, LA and MS, Review Period Ends: 07/30/2012, Contact: Tammy Gilmore 504-862-1002.

EIS No. 20120208, Final EIS, USFS, MT, Troy Mine Revised Reclamation Plan, Approval of a Reclamation Plan and Permits, Kootenai National Forest, Lincoln County, MT, Review Period Ends: 07/30/2012, Contact: Bobbie Lacklen 406-283-7681.

EIS No. 20120209, Draft EIS, USN, FL, Naval Air Station Key West Airfield Operations, To Support and Conduct Aircraft Training Operations, Florida Keys, Monroe County, FL, Comment Period Ends: 08/13/2012, Contact: John Conway 904-542-6870.

EIS No. 20120210, Final EIS, BIA, WI, Menominee Casino-Hotel 223-Acre Fee-to-Trust Transfer and Casino Project, Implementation, NPDES Permit, Kenosha County, WI, Review Period Ends: 07/30/2012, Contact: Scott Doig 612-725-4514 This document is available on the Internet at: www.kenoshaeis.com.

EIS No. 20120211, Draft EIS, USFWS, OH, Proposed Habitat Conservation Plan and Incidental Take Permit for the Indiana Bat (Myotis sodalis) for the Buckeye Wind Power Project, Application, Champaign County, OH, Comment Period Ends: 09/27/2012, Contact: Megan Seymour 614-416-8993, ext. 16.

Amended Notices

EIS No. 20120150, Draft EIS, FHWA, CA, Interchange 5/State Route 56 Interchange Project, Connection between southbound I-5 to eastbound SR-56 and northbound SR 56 to northbound I-5, San Diego County, CA, Comment Period Ends: 07/17/2012, Contact: Manuel E. Sanchez 619-699-7336. Revision to FR Notice Published 05/18/2012, Extending Comment Period from 07/02/2012 to 07/17/2012.

EIS No. 20120152, Draft EIS, FHWA, CA, San Diego Freeway (I-405) Improvement Project, between State Route 73 and Interstate 605, USACE Section 404 Permit, Orange and Los Angeles Counties, CA, Comment Period Ends: 07/17/2012, Contact: Tay Dam 213-605-2013. Revision to FR Notice Published 5/15/2012; Comment Period Extended from 07/02/2012 to 07/17/2012.

EIS No. 20120192, Final EIS, NMFS, CA, Authorization for Incidental Take and Implementation of Fruit Growers Supply Multispecies Habitat Conservation Plan, Siskiyou County, CA, Review Period Ends: 08/06/2012, Contact: Lisa Roberts, 707-825-5178 NMFS, Yreka Office 530-842-5763 ext. 109 USFWS. Revision to FR Notice Published 6/22/2012; Change Review Period from 7/23/2012 to 8/6/2012.

Dated: June 26, 2012.
Cliff Rader,
Director, NEPA Compliance Division, Office of Federal Activities.

[FR Doc. 2012-16031 Filed 6-28-12; 8:45 am]

BILLING CODE 6560-50-P